DEPARTMENT OF JUSTICE

Notice of Lodging of Proposed Partial Consent Decree Under the Clean Water Act

Notice is hereby given that on January 3, 2013, a proposed partial Consent Decree (“Decree”) was lodged in U.S. v. BP Exploration and Production, et al, Civil No. 10-4536 (E.D. La.) (That case is centralized in MDL 2179: In Re: Oil Spill by the Oil Rig “Deepwater Horizon” in the Gulf of Mexico, on April 20, 2010.)

In this civil enforcement action the United States sought, among other things, civil penalties under Section 311(b) of the Clean Water Act, 33 U.S.C. 1321(b), from the “Transocean Defendants” (Transocean Deepwater Inc., Transocean Offshore Deepwater Drilling Inc., Transocean Holdings LLC, and Triton Asset Leasing GmbH). That claim arises against the Transocean Defendants, and other defendants as well, from the discharge of oil into the Gulf of Mexico resulting from the blowout of the Macondo Well that began in April 2010.

Under the proposed Decree, the Transocean Defendants will pay a $1 billion civil penalty. The proposed Decree does not conclude any claim against the Transocean Defendants other than those claims for penalty specified in the proposed Decree. The proposed Decree also does not resolve any claim brought against other defendants in this civil enforcement action.

Also under the proposed Decree, the Transocean Defendants must comply with court-enforceable strictures aimed at reducing the chances of another blowout-and-discharge-of-oil and at improving emergency response capabilities. Examples of these requirements include: Certifications of maintenance and repair of blowout preventers before each drilling job, consideration of process safety risks, and personnel training related to oil spills and responses to other emergencies. The Transocean Defendants will have to meet these requirements for at least five years on all their drilling operations in waters near the United States.

The Department of Justice will receive for a period of twenty-one (21) calendar days from the date of this publication comments relating to the proposed Decree. The 21-day period (and not a longer period of time) is provided to ensure both a proper public comment period and an opportunity for the Department of Justice to receive, consider, and address public comments before the first phase of the civil trial, scheduled to begin on February 25, 2013, before the United States District Court for the Eastern District of Louisiana. Comments should be addressed to the Assistant Attorney General, Environment and Natural Resources Division, and either emailed to pubcomment-ees.enrd@usdoj.gov or mailed to P.O. Box 7611, U.S. Department of Justice, Washington, DC 20044-7611, and should refer to U.S. v. BP Exploration and Production et al, Civil No. 10-4536 (E.D. La.) (centralized in MDL 2179: In Re: Oil Spill by the Oil Rig “Deepwater Horizon” in the Gulf of Mexico, April 20, 2012), D.J. Ref. 90-5-1-1-10026.

During the public comment period, the proposed Decree may be examined on the following Department of Justice Web site: http://www.usdoj.gov/enrd/Consent_Decrees.html. A copy of the proposed Decree may also be obtained by mail from the Consent Decree Library, P.O. Box 7611, U.S. Department of Justice, Washington, DC 20044-7611, or by faxing or emailing a request to “Consent Decree Copy” (EESCDCopy.ENRD@usdoj.gov), fax no. (202) 514-0097, phone confirmation number (202) 514-5271. If requesting a copy from the Consent Decree Library by mail, please enclose a check in the amount of $19.50 (25 cents per page reproduction cost) payable to the U.S. Treasury or, if requesting by fax, forward a check in that amount to the Consent Decree Library at the address given above.

Maureen M. Katz,
Assistant Chief, Environmental Enforcement Section, Environment and Natural Resources Division.

[FR Doc. 2013-00209 Filed 1-8-13; 8:45 am]

BILLING CODE 4410-15-P